DEPARTMENT OF TRANSPORTATION

Federal Aviation Administration

14 CFR Part 39

[Docket No. FAA-2021-0885; Project Identifier MCAI-2021-00966-R; Amendment 39-21786; AD 2021-22-13]

RIN 2120-AA64

Airworthiness Directives; Leonardo S.p.a. Helicopters

AGENCY: Federal Aviation Administration (FAA), DOT.

ACTION: Final rule; request for comments.

SUMMARY: The FAA is adopting a new airworthiness directive (AD) for certain Leonardo S.p.a. Model AB139 and AW139 helicopters. This AD was prompted by the determination that the requirement to accomplish a rated load check (RTC) on certain hoist assemblies may have been inadvertently left out of some aircraft maintenance publications (AMPs). This AD requires performing an RTC on certain part-numbered hoist assemblies with certain part-numbered hoist cables installed and corrective actions if any discrepancies are found as specified in a European Union Aviation Safety Agency (EASA) AD, which is incorporated by reference. The FAA is issuing this AD to address the unsafe condition on these products.

DATES: This AD becomes effective November 17, 2021.

The Director of the Federal Register approved the incorporation by reference of a certain publication listed in this AD as of November 17, 2021.

The FAA must receive comments on this AD by December 17, 2021.

ADDRESSES: You may send comments, using the procedures found in 14 CFR 11.43 and 11.45, by any of the following methods:

• Federal eRulemaking Portal: Go to https://www.regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For EASA material incorporated by reference (IBR) in this AD, contact the EASA, Konrad-Adenauer-Ufer 3, 50668 Cologne, Germany; telephone +49 221 8999 000; email ADs@easa.europa.eu; internet www.easa.europa.eu. You may find this IBR material on the EASA website at https://ad.easa.europa.eu. For Leonardo S.p.a. service information identified in this AD, contact Leonardo S.p.A. Helicopters, Emanuele Bufano, Head of Airworthiness, Viale G.Agusta 520, 21017 C.Costa di Samarate (Va) Italy; telephone +39-0331-225074; fax +39-0331-229046; or at https://customerportal.leonardocompany.com/en-US/. You may view this material at the FAA, Office of the Regional Counsel, Southwest Region, 10101 Hillwood Pkwy., Room 6N-321, Fort Worth, TX 76177. For information on the availability of this material at the FAA, call (817) 222-5110. Service information is also available at https://www.regulations.gov by searching for and locating Docket FAA-2021-0885.

Examining the AD Docket

You may examine the AD docket at https://www.regulations.gov by searching for and locating Docket No. FAA-2021-0885; or in person at Docket Operations between 9 a.m. and 5 p.m., Monday through Friday, except Federal holidays. The AD docket contains this AD, the EASA AD, any comments received, and other information. The street address for Docket Operations is listed above.

FOR FURTHER INFORMATION CONTACT: Darren Gassetto, Aerospace Engineer, COS Program Management Section, Operational Safety Branch, Compliance & Airworthiness Division, FAA, 1600 Stewart Ave., Suite 410, Westbury, NY 11590; telephone (516) 228-7323; email Darren.Gassetto@faa.gov.

SUPPLEMENTARY INFORMATION:

Background

EASA, which is the Technical Agent for the Member States of the European Union, has issued EASA AD 2021-0186R1, dated August 18, 2021 and corrected August 23, 2021 (EASA AD 2021-0186R1), to correct an unsafe condition for Leonardo S.p.A. Helicopters, formerly Finmeccanica S.p.A, AgustaWestland S.p.A., Agusta S.p.A.; and AgustaWestland Philadelphia Corporation, formerly Agusta Aerospace Corporation, Model AB139 and AW139 helicopters.

EASA advises that a review of an AW139 AMP manual determined that the requirement to accomplish an RTC on a Breeze hoist assembly was not introduced until AMP issue 39, dated June 7, 2021. EASA advises the RTC is intended to verify the integrity of the hoist assembly and the efficiency of the hoist system operation. EASA further advises that the RTC is included in the hoist manufacturer's Flight Line Operation and Maintenance Manual and is required whenever the hoist cable is replaced or a hoist is stored for more than 12 months. EASA further advises since the RTC has been recently published in the AW139 AMP it may not have been accomplished on all affected hoist assemblies. This condition, if not detected and corrected, could lead to failure of the hoist assembly, possibly resulting in loss of external human cargo during hoist operations. Accordingly, EASA AD 2021-0186R1 requires accomplishing an RTC of certain hoist assemblies, and if during the RTC any discrepancy is detected, before next hoist operation, contacting Leonardo S.p.a. Helicopters for approved corrective action. See the EASA AD for additional background information.

FAA's Determination

These products have been approved by the aviation authority of another country, and are approved for operation in the United States. Pursuant to the FAA's bilateral agreement with the State of Design Authority, the FAA has been notified of the unsafe condition described in EASA AD 2021-0186R1 referenced above. The FAA is issuing this AD after evaluating all pertinent information and determining that the unsafe condition exists and is likely to exist or develop on other products of these same type designs.

Related Service Information Under 1 CFR Part 51

EASA AD 2021-0186R1 specifies procedures for accomplishing an RTC of the rescue hoist system in accordance with the instructions in the manufacturer's service information.

This material is reasonably available because the interested parties have access to it through their normal course of business or by the means identified in the ADDRESSES section.

AD Requirements

This AD requires accomplishing the actions specified in EASA AD 2021-0186R1, described previously, as incorporated by reference, except for any differences identified as exceptions in the regulatory text of this AD and except as discussed under “Differences Between this AD and the MCAI.”

Differences Between This AD and EASA AD 2021-0186R1

EASA AD 2021-0186R1 applies to all serial-numbered Model AB139 and AW139 helicopters, whereas this AD only applies to Model AB139 and AW139 helicopters equipped with certain parts that have not completed an RTC in accordance with certain service information following either replacement of certain hoist cables or installation of a hoist assembly that has been in storage for more than 12 consecutive months. Paragraph (2) of EASA AD 2021-0186R1 requires contacting Leonardo S.p.a. Helicopters for approved corrective actions if any discrepancies are found, whereas this AD requires accomplishing the corrective actions using a method approved by the Manager, General Aviation and Rotorcraft Section, International Validation Branch, FAA; or EASA; or Leonardo S.p.a. Helicopters' EASA Design Organization Approval.

Explanation of Applicability Paragraph

This AD applies to certain Leonardo S.p.a. Model AB139 and AW139 helicopters, equipped with certain part-numbered Breeze external hoist assemblies that have not passed an RTC in accordance with certain maintenance manuals, maintenance instructions, or alert service bulletins after certain maintenance actions have been performed. Although EASA specifies that EASA AD 2021-0186R1 is applicable to all Model AB139 and AW139 helicopters, this AD specifies the applicable maintenance manuals, maintenance instructions, and alert service bulletins, along with the maintenance actions, in the Applicability paragraph to ensure all owners and operators comply with passing the RTC prior to the next hoist operation, as required by this AD.

Explanation of Required Compliance Information

In the FAA's ongoing efforts to improve the efficiency of the AD process, the FAA initially worked with Airbus and EASA to develop a process to use certain EASA ADs as the primary source of information for compliance with requirements for corresponding FAA ADs. The FAA has since coordinated with other manufacturers and civil aviation authorities to use this process. As a result, EASA AD 2021-0186R1 is incorporated by reference in this AD. This AD therefore, requires compliance with EASA AD 2021-0186R1 in its entirety, through that incorporation, except for any differences identified as exceptions in the regulatory text of this AD. Using common terms that are the same as the heading of a particular section in the EASA AD does not mean that operators need comply only with that section. For example, where the AD requirement refers to “all required actions and compliance times,” compliance with this AD requirement is not limited to the section titled “Required Action(s) and Compliance Time(s)” in the EASA AD. Service information specified in EASA AD 2021-0186R1 that is required for compliance with EASA AD 2021-0186R1 is available on the internet at https://www.regulations.gov by searching for and locating Docket No. FAA-2021-0885.

Justification for Immediate Adoption and Determination of the Effective Date

Section 553(b)(3)(B) of the Administrative Procedure Act (APA) (5 U.S.C. 551 et seq.) authorizes agencies to dispense with notice and comment procedures for rules when the agency, for “good cause” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies foregoing notice and comment prior to adoption of this rule because the requirement to accomplish an RTC on certain hoist assemblies may have been inadvertently left out of some AMPs, and therefore may not have been accomplished on all hoist assemblies, which could lead to failure of the hoist assembly. In addition, the compliance time for the required actions is before the next hoist operation, a shorter time period than the time necessary for the public to comment and for publication of the final rule.

Therefore, notice and opportunity for prior public comment are impracticable and contrary to public interest pursuant to 5 U.S.C. 553(b)(3)(B). In addition, the FAA finds that good cause exists pursuant to 5 U.S.C. 553(d) for making this amendment effective in less than 30 days, for the same reasons the FAA found good cause to forgo notice and comment.

Comments Invited

The FAA invites you to send any written relevant data, views, or arguments about this AD. Send your comments to an address listed under ADDRESSES. Include “Docket No. FAA-2021-0885.; Project Identifier MCAI-2021-00966-R” at the beginning of your comments. The most helpful comments reference a specific portion of the AD, explain the reason for any recommended change, and include supporting data. The FAA will consider all comments received by the closing date and may amend this AD because of those comments.

Except for Confidential Business Information (CBI) as described in the following paragraph, and other information as described in 14 CFR 11.35, the FAA will post all comments received, without change, to https://www.regulations.gov, including any personal information you provide. The agency will also post a report summarizing each substantive verbal contact received about this AD.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Darren Gassetto, Aerospace Engineer, COS Program Management Section, Operational Safety Branch, Compliance & Airworthiness Division, FAA, 1600 Stewart Ave., Suite 410, Westbury, NY 11590; telephone (516) 228-7323; email Darren.Gassetto@faa.gov. Any commentary that the FAA receives that is not specifically designated as CBI will be placed in the public docket for this rulemaking.

Regulatory Flexibility Act (RFA)

The requirements of the RFA do not apply when an agency finds good cause pursuant to 5 U.S.C. 553 to adopt a rule without prior notice and comment. Because the FAA has determined that it has good cause to adopt this rule without notice and comment, RFA analysis is not required.

Costs of Compliance

The FAA estimates that this AD affects 129 helicopters of U.S. registry. Labor rates are estimated at $85 per work-hour. Based on these numbers, the FAA estimates the following costs to comply with this AD.

Performing an RTC takes about 1 work-hour for an estimated cost of $85 per RTC, and $10,965 for the U.S. fleet.

If required, replacing the hoist assembly takes about 1.5 work-hours and parts cost about $204,364 for an estimated cost of $204,492 per hoist assembly.

If required, replacing a hoist cable takes about 0.75 work-hour and parts cost about $14,141 for an estimated cost of $14,205 per hoist cable.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this AD will not have federalism implications under Executive Order 13132. This AD will not have a substantial direct effect on the States, on the relationship between the national Government and the States, or on the distribution of power and responsibilities among the various levels of government.

For the reasons discussed above, I certify this regulation:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2021-22-13 Leonardo S.p.a.: Amendment 39-21786; Docket No. FAA-2021-0885.; Project Identifier MCAI-2021-00966-R.

(a) Effective Date

This airworthiness directive (AD) becomes effective November 17, 2021.

(b) Affected ADs

None.

(c) Applicability

This AD applies to Leonardo S.p.a. Model AB139 and AW139 helicopters, certificated in any category, equipped with a Breeze external hoist assembly, having part number (P/N) P/N 3G2591V00331 (Breeze P/N BL-20200-421), P/N 3G2591V02931 (Breeze P/N BLH-20200-431-1), P/N 3G2591V02932 (Breeze P/N BLH-20200-431-2), or P/N 3G2591V01431 (Breeze P/N BL-20200-422), that has not passed a rated load check (RTC) in accordance with Breeze Flight Line Operation and Maintenance Manual TD-03-008, TD-08-002 or TD-03-009 as applicable, or the Accomplishment Instructions of Leonardo Emergency Alert Service Bulletin 139-679, dated August 5, 2021 (ASB 139-679), or Annex 1 of Leonardo S.p.A. AW139 Temporary Maintenance Instruction (TMI) 139-546, dated August 2, 2021, after performing the following actions:

(1) Replacement of the hoist cable (Breeze P/N BL-6260 or P/N BL-9149-8, as applicable), or

(2) Installation of a hoist assembly that has been in storage for more than 12 consecutive months.

(d) Subject

Joint Aircraft System Component (JASC) Code: 2550, Cargo Compartments.

(e) Unsafe Condition

This AD was prompted by the determination that the requirement to accomplish an RTC on certain hoist assemblies may have been inadvertently left out of some aircraft maintenance publications. The FAA is issuing this AD to address failure of the hoist assembly. This condition could result in loss of external human cargo during hoist operations.

(f) Compliance

Comply with this AD within the compliance times specified, unless already done.

(g) Requirements

Except as specified in paragraph (h) of this AD: Comply with all required actions and compliance times specified in, and in accordance with, European Union Aviation Safety Agency (EASA) AD 2021-0186R1, dated August 18, 2021 and corrected August 23, 2021 (EASA AD 2021-0186R1).

(h) Exceptions to EASA AD 2021-0186R1

(1) Where EASA AD 2021-0186R1 refers to August 10, 2021 (the effective date of EASA AD 2021-0186-E at original issue), this AD requires using the effective date of this AD.

(2) This AD does not mandate the “Remarks” section of EASA AD 2021-0186R1.

(3) Where paragraph (2) of EASA AD 2021-0186R1 specifies to contact Leonardo S.p.a. for approved corrective action instructions, for this AD, if any discrepancy is detected during the RTC, the corrective actions must be accomplished before next hoist operation using a method to be approved by the Manager, General Aviation and Rotorcraft Section, International Validation Branch, FAA; or EASA; or Leonardo S.p.a. Helicopters' EASA Design Organization Approval (DOA). If approved by the DOA, the approval must include the DOA-authorized signature.

Note 1 to paragraph (h)(3): Discrepancies are noted in steps 2 and 3 of Annex A of ASB 139-679.

(j) No Reporting Requirement

Although the service information referenced in EASA AD 2021-0186R1 specifies to submit certain information to the manufacturer, this AD does not include that requirement.

(k) Special Flight Permit

Special flight permits may be issued in accordance with 14 CFR 21.197 and 21.199 to operate the helicopter to a location where the helicopter can be modified (if the operator elects to do so), provided the external hoist assembly is not used until the RTC and any applicable corrective actions specified in paragraphs (1) through (3) of EASA AD 2021-0186R1 have been accomplished.

(l) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (m)(1) of this AD. Information may be emailed to: 9-AVS-AIR-730-AMOC@faa.gov.

(2) Before using any approved AMOC, notify your appropriate principal inspector, or lacking a principal inspector, the manager of the local flight standards district office/certificate holding district office.

(m) Related Information

(1) For more information about this AD, contact Darren Gassetto, Aerospace Engineer, COS Program Management Section, Operational Safety Branch, Compliance & Airworthiness Division, FAA, 1600 Stewart Ave., Suite 410, Westbury, NY 11590; telephone (516) 228-7323; email Darren.Gassetto@faa.gov.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Union Aviation Safety Agency (EASA) AD 2021-0186R1, dated August 18, 2021 and corrected August 23, 2021.

(ii) [Reserved]

(3) For EASA AD 2021-0186R1, contact the EASA, Konrad-Adenauer-Ufer 3, 50668 Cologne, Germany; telephone +49 221 8999 000; email ADs@easa.europa.eu; internet www.easa.europa.eu. You may find this EASA AD on the EASA website at https://ad.easa.europa.eu.

(4) You may view this service information at the FAA, Office of the Regional Counsel, Southwest Region, 10101 Hillwood Pkwy., Room 6N-321, Fort Worth, TX 76177. For information on the availability of this material at the FAA, call 817-222-5110. This material may be found in the AD docket on the internet at https://www.regulations.gov by searching for and locating Docket No. FAA-2021-0885.

(5) You may view this material that is incorporated by reference at the National Archives and Records Administration (NARA). For information on the availability of this material at NARA, email fr.inspection@nara.gov, or go to https://www.archives.gov/federal-register/cfr/ibr-locations.html.

Issued on October 15, 2021.
Lance T. Gant,
Director, Compliance & Airworthiness Division, Aircraft Certification Service.

[FR Doc. 2021-23896 Filed 10-28-21; 4:15 pm]

BILLING CODE 4910-13-P